DEPARTMENT OF COMMERCE

International Trade Administration

United States-Mexico-Canada Agreement (USMCA), Article 10.12; Binational Panel Review: Notice of Request for Panel Review

AGENCY: United States Section, USMCA Secretariat, International Trade Administration, Department of Commerce.

ACTION: Notice of USMCA Request for Panel Review in the matter of Certain Softwood Lumber Products from Canada: Final Affirmative Countervailing Duty Administrative Review, 2017-2018 (Secretariat File Number: USA-CDA-2020-10.12-01).

SUMMARY: A Request for Panel Review was filed on behalf of the Government of Canada, the Government of Alberta, the Government of British Columbia, the Government of New Brunswick, the Government of Ontario, the Government of Québec, Alberta Softwood Lumber Trade Council (“ASLTC”), British Columbia Lumber Trade Council (“BCLTC”), Conseil de l'Industrie forestiere du Québec (“CIFQ”), Ontario Forest Industries Association (“OFIA”), J.D. Irving, Limited (“JDI”), Resolute FP Canada Inc. (“Resolute”), and West Fraser Mills Ltd. with the United States Section of the USMCA Secretariat on December 10, 2020, pursuant to USMCA Article 10.12. Panel Review was requested of the U.S. International Trade Administration's Final Results of the Countervailing Duty Administrative Review (2017-2018) in Certain Softwood Lumber from Canada, which was published in the Federal Register on December 1, 2020 (85 FR 77, 163). The USMCA Secretariat has assigned case number USA-CDA-2020-10.12-01 to this request.

FOR FURTHER INFORMATION CONTACT: Vidya Desai, Acting United States Secretary, USMCA Secretariat, Room 2061, 1401 Constitution Avenue NW, Washington, DC 20230, 202-482-5438.

SUPPLEMENTARY INFORMATION: Article 10.12 of Chapter 10 of USMCA provides a dispute settlement mechanism involving trade remedy determinations issued by the Government of the United States, the Government of Canada, and the Government of Mexico. Following a Request for Panel Review, a Binational Panel is composed to review the trade remedy determination being challenged and issue a binding Panel Decision. There are established USMCA Rules of Procedure for Article 10.12 (Binational Panel Reviews), which were adopted by the three governments for panels requested pursuant to Article 10.12(2) of USMCA which requires Requests for Panel Review to be published in accordance with Rule 40. For the complete Rules, please see https://can-mex-usa-sec.org/secretariat/agreement-accord-acuerdo/usmca-aceum-tmec/rules-regles-reglas/article-article-articulo_10_12.aspx?lang=eng.

The Rules provide that:

(a) A Party or interested person may challenge the final determination in whole or in part by filing a Complaint in accordance with Rule 44 no later than 30 days after the filing of the first Request for Panel Review (the deadline for filing a Complaint is January 11, 2021);

(b) A Party, an investigating authority or other interested person who does not file a Complaint but who intends to participate in the panel review shall file a Notice of Appearance in accordance with Rule 45 no later than 45 days after the filing of the first Request for Panel Review (the deadline for filing a Notice of Appearance is January 25, 2021);

(c) The panel review will be limited to the allegations of error of fact or law, including challenges to the jurisdiction of the investigating authority, that are set out in the Complaints filed in the panel review and to the procedural and substantive defenses raised in the panel review.

December 14, 2020.
Vidya Desai,
Acting U.S. Secretary, USMCA Secretariat.

[FR Doc. 2020-27830 Filed 12-17-20; 8:45 am]

BILLING CODE 3510-GT-P